NATIONAL SCIENCE FOUNDATION

Committee Management; Notice of Establishment

The National Science Board and the Deputy Director, National Science Foundation have determined that the establishment of the Commission on 21st Century Education in Science, Technology, Engineering, and Mathematics is necessary and in the public interest in connection with the performance of duties imposed upon the National Science Foundation (NSF), by 42 U.S.C. 1861 et seq. This determination follows consultation with the Committee Management Secretariat, General Services Administration.

Name of Committee: Commission on 21st Century Education in Science, Technology, Engineering, and Mathematics.

Nature/Purpose: The Commission will provide advice and recommendations to the National Science Board (NSB) on a broad range of policy issues dealing with science, technology, engineering, and mathematics education. The Board expects the scope of the Commission's advice and recommendations to address pre-K-16 education.

Responsible NSF Official: Dr. Michael P. Crosby, National Science Board Office, National Science Foundation, Room 1225, 4201 Wilson Boulevard, Arlington, VA 22230. Telephone: (703) 292-7000.

Dated: April 14, 2006.
Paul Bealafeld,
Chief, Committee Management Office.

[FR Doc. 06-3723 Filed 4-18-06; 8:45 am]

BILLING CODE 7555-01-M